DEPARTMENT OF LABOR

Veterans' Employment and Training Services

Funding Opportunity: Incarcerated Veterans Transition Program (IV-TP) Pilot Competitive Grants for FY 2004

Announcement Type: Initial announcement of availability of funds and Solicitation for Grant Applications (SGA) for Incarcerated Veteran Transition Programs.

Funding Opportunity Number: SGA 04-01.

Catalogue of Federal Assistance Number: 17-805.

Dates: Applications are due on January 21, 2004. Period of Performance is February 24, 2004, through February 23, 2005.

Application and Amendments: If copies of the standard forms are needed, they can be downloaded from http://www.whitehouse.gov/omb/grants/grants_forms.html.

To receive amendments to this solicitation (please reference SGA 04-01) all applicants must register their name and address with the Grant Officer at below listed address.

Cassandra Willis, Department of Labor: Procurement Services Center, Room N-5416, 200 Constitution Avenue, NW., Washington, DC 20210; Telephone (202) 693-4570.

Summary: Applicants for grant funds should read this notice in its entirety. The U.S. Department of Labor, Veterans' Employment and Training Service (VETS), announces a grant competition for up to four pilot programs that comply with the requirements of 38 U.S.C. section 2022, as added by section 5 of Pub. L. 107-95. Pub. L. 107-95, the Homeless Veterans Comprehensive Assistance Act (HVCAA) of 2001 requires the Department of Labor and the Department of Veteran Affairs to partner in the development, support, and operation of at least six demonstration projects designed to support incarcerated veterans at risk of homelessness. This demonstration is being funded under the authority of the Homeless Veterans Reintegration Program, 38 U.S.C. section 2021.

Applicants will be required to design programs which assist eligible veterans (who are incarcerated and at risk of homelessness) that provide career counseling, employment training, job search assistance, and life skills support services.

Under this solicitation, VETS anticipates that up to $250,000 will be available for each of the grant awards in fiscal year (FY) 2004 and expects to award up to four (4) grants. Projects will be selected that provide services to incarcerated veterans at one or more levels of the correctional system, i.e., Federal, State and local. This notice contains all of the necessary information and forms needed to apply for grant funding.

The Incarcerated Veterans Transition Programs (IV-TP) are to be designed to be flexible in addressing the national, regional, and/or local issues that prevent previously incarcerated veterans from reintegrating into the workforce.

VETS will seek applicants that provide direct services through a case management approach that networks with Federal, State, and local resources for veteran support programs that have clear strategies for employment and retention and/or life skills treatment of the previously incarcerated veteran.

I. Funding Opportunity Description (Background)

Section 5 of Pub. L. 107-95, the Homeless Veterans Comprehensive Assistance Act (HVCAA) of 2001 amended title 38, United States Code, “to revise, improve, and consolidate provisions of law providing benefits and services for homeless veterans' and required that the Department of Labor and Department of Veteran Affairs partner in at least six (6) demonstration projects to serve incarcerated veterans at risk of homelessness. The Homeless Veterans' Reintegration Project (HVRP) was the first nationwide Federal program that concentrated on placing homeless veterans into jobs. This extension of the HVRP project, designed to support and evaluate programs that focus principally on previously incarcerated veterans, will provide invaluable information on approaches that assist in the prevention of homelessness among that population.

II. Award Information

Under this solicitation, VETS anticipates that up to $250,000 will be available for each grant awarded in Fiscal Year (FY) 2004 and expects to award up to four (4) grants.

Projects will be selected that provide services to incarcerated veterans at one or more levels of the correctional system, i.e., Federal, State and local, in order for the participants to transition into the workforce. VETS will seek applicants that provide direct services through a case management approach that networks with Federal, State, and local resources for veteran support programs that have clear strategies for employment and retention and/or life skills treatment of the previously incarcerated veteran.

We anticipate awarding at least one (1) grant for each type of correctional facility program (Federal, State, and local).

III. Eligibilty Information

1. Eligible Applicants

Applications for funds will be accepted from State and local Workforce Investment Boards (WIBS), public agencies, for-profit/commercial entities, and nonprofit organizations, including faith-based and community organizations, who are familiar with the population to be served and can demonstrate expertise in administering an effective program. Eligible applicants will fall into one of the following categories:

A. State and local Workforce Investment Boards (WIBS), established under section 111 and 117 of the Workforce Investment Act.

B. Public agencies meaning any public agency of a State or of a general purpose political subdivision of a State which has the power to levy taxes and spend funds, as well as general corporate and police powers. (This typically refers to cities and counties.) A State agency may propose in its application to serve one or more of the potential jurisdictions located in its State. This does not preclude a city or county agency from submitting an application to serve its own jurisdiction.

Applicants are encouraged to utilize, through partnerships or sub-awards, experienced public agencies, private nonprofit organizations, private businesses and faith-based and community organizations that have an understanding of unemployment and the barriers to employment unique to previously incarcerated veterans, a familiarity with the area to be served, and the capability to effectively provide the necessary services.

C. For-profit/commercial entities and private nonprofit organizations that have operated a VWIP, HVRP or similar employment and training program for the homeless or veterans and have a proven competence to manage grants and have or will provide the necessary linkages with other service providers.

D. Non-profit organizations that have received 501(c) (3) status from the Internal Revenue Service (IRS). If claiming 501(c) (3) status, the IRS statement indicating 501(c) (3) status approval must be submitted.

Entities described in section 501(c)(4) of the Internal Revenue Codes that engage in lobbying activities are not eligible to receive funds under this announcement as section 18 of the Lobbying Disclosure Act of 1995, Pub. L. 104-65, 109 Stat. 691, prohibits the award of Federal funds to these entities.

2. Cost Sharing

Cost sharing and matching funds are not required for this SGA.

3. Other

A. Funding Levels

The total funding available for this solicitation is up to $1,000,000. It is anticipated that up to four (4) awards will be made under this solicitation. Awards are expected to range from $200,000 to a maximum of $250,000. The Department of Labor reserves the right to negotiate the amounts to be awarded under this competition. Please be advised that requests exceeding the $250,000 will be considered non-responsive.

B. Period of Performance

The period of performance will be for twelve (12) months from date of award unless modified. It is expected that successful applicants will begin program operations under this solicitation on February 24, 2004. Program funds must be obligated by February 23, 2005; however, a limited amount of funds should be reserved for follow-up activities and closeout.

C. Optional Year Funding

Should there be action by Congress to appropriate additional funds for this purpose, optional year funding may be considered. The Government does not, however, guarantee optional year funding for any Grantee. Should VETS decide that an optional year funding be exercised, the Grantees' performance during the previous period of operations will be taken into consideration (see IV. 5.C.).

IV. Application and Submission Information

1. Address To Request Application

Application announcements or forms will not be mailed. The Federal Register may be obtained from your nearest government office or library. In addition, a copy of this notice and the application requirements may be downloaded from the Veterans Employment and Training Services Web site at http://www.dol.gov/vets. If additional copies of the standard forms are needed, they can also be downloaded from: http://www.whitehouse.gov/omb/grants/grants_forms.html.

2. Content and Form of Application Submission

A. A cover letter, an original, and two (2) copies of the proposal must be submitted to: U.S. Department of Labor, Procurement Services Center, 200 Constitution Avenue, NW., Room N-5416, Attn: Cassandra Willis, Washington, DC 20210; Phone (202) 693-4570.

It is recommended that applicants confirm application receipt by contacting the above listed point of contact prior to the closing date (this is not a toll-free number). Applicants are advised that postal reaction to anthrax contamination of U.S. mail occasionally caused mail delivery delays that must be considered when taking into account the application deadline.

B. The proposal must consist of two (2) separate and distinct parts, the Technical Proposal and the Cost Proposal as well as the Standard Form 424. All proposals will include:

(1) One completed, blue ink-signed original SF 424, Application for Federal Assistance;

(2) An original and two (2) copies of the Technical Proposal; including proposed Technical Performance Goals Form in Appendix D; and

(3) An original and two (2) copies of the Cost Proposal.

C. The information provided in these two parts is essential to gain an understanding of the programmatic and fiscal contents of the grant proposal.

1. Part 1—The Technical Proposal consists of a narrative proposal that demonstrates: the applicant's knowledge of the need for this particular grant program, an understanding of the services and activities proposed to obtain successful outcomes for the ex-offender veterans served; and evidence of the applicant's ability to accomplish the expected outcomes of the proposed project design. The technical proposal narrative must not exceed fifteen (15) pages double-spaced, font size no less than 11 pt., and typewritten on one side of the paper only. (The applicant also must complete the forms, i.e., Technical Performance Goals chart provided in the SGA, Appendix D.)

Note: Resumes, charts, standard forms, transmittal letters, MOUs, agreements, lists of contracts and grants and letters of support are not included in the page count. If provided, include these documents as attachments to the technical proposal.

The proposal must include an outreach component that uses either DVOP/LVER staff or a trained outreach cadre and must include correctional personnel to provide information and “inreach” within the correctional institution. Coordination with the Department of Veterans' Affairs Regional Benefits Office, DVOPs and LVERs in the jurisdiction is required. Programs must be “employment focused”. The services provided will be directed toward: (a) Increasing the employability of incarcerated veterans through training or arranging for the provision of services which will enable them to work after release; and (b) matching veteran ex-offenders with potential employers. The following format for the technical proposal is strongly recommended:

(a) Need for the program. The applicant must identify the geographical area to be served and provide an estimate of the number of incarcerated veterans in the designated area. Include poverty and unemployment rates in the area and identify the disparities in the local community infrastructure that exacerbate the employment barriers faced by the targeted veterans. Indicate how the project would respond to these obstacles and include labor market information (LMI) on the prospect for job opportunities in emerging areas, i.e., service area.

(b) Approach or strategy to increase employment and job retention: Applicants must be responsive to the Rating Criteria contained in section IX and address all of the rating factors as thoroughly as possible in the narrative. The applicant must: (a) Indicate the type(s) of training available to include its applicability to the jobs that are in demand, length of training, training curriculum and how the training will improve the eligible veterans' employment opportunities within that geographical area; (b) describe the specific supportive, employment and training services to be provided under this grant and the sequence or flow of such services—flow charts may be provided; (c) provide a follow-up plan that addresses retention after 30, 90 and 180 days with participants who have entered employment (see discussion on results in section V.c.); and (d) include the required chart of proposed performance goals and planned expenditures listed in Appendix D.

(c) Linkages with correctional programs, services and facilities that serve the homeless veterans: Describe program and resource linkages with correctional services and facilities that will be involved in identifying potential clients for this program. Describe any networks with other related resources and/or other programs of a correctional nature that serves incarcerated veterans. Indicate how the program will be coordinated with any correctional efforts that are conducted by public and private agencies in the community. If a Memoranda of Understanding (MOU) or other service agreements exist with service providers, copies should be provided.

(d) Linkages with other providers of employment and training services to the homeless veterans: Describe the networks the program will have with other providers of services to homeless veterans other than the IV-TP grant; include a description of the relationship with other employment and training programs such as DVOP, the Local Veterans' Employment Representative (LVER) program, and programs under the Workforce Investment Act; and list the type of services that will be provided by each. Note the type of agreement in place, if applicable. Linkages with the workforce development system must be delineated. Describe any networks with any other resources and/or other programs for incarcerated veterans. Indicate how the program will be coordinated with any efforts for the homeless that are conducted by agencies in the community. If a Memoranda of Understanding (MOU) or other service agreements exists with other service providers, copies should be provided.

(e) Linkages with other Federal agencies: Describe program and resource linkages with Department of Housing and Urban Development (HUD), Department of Health and Human Services (HHS), and Department of Veterans Affairs (VA) for the veteran population to include the Compensated Work Therapy (CWT) and Per Diem programs. Indicate how the applicant will coordinate with any “continuum of care” efforts for the homeless among agencies in the community. If a Memoranda of Understanding (MOU) or other service agreements exists with other service providers, copies should be provided.

(f) Proposed supportive service strategy for veterans: Describe how supportive service resources for veterans will be obtained and used. If resources are provided by other sources or linkages, such as Federal, State, local or faith-based and community programs, the applicant must fully explain the use of these resources and how they will be applied. If a Memoranda of Understanding (MOU) or other service agreements exists with other service providers, copies should be provided.

(g) Organizational capability to provide required program activities: The applicant's relevant current or prior experience in operating employment and training programs should be clearly described. A summary narrative of program experience and employment and training performance outcomes is required. The applicant must provide information showing outcomes of all past programs in terms of enrollments and placements. An applicant that has operated a HVRP, other Homeless Employment and Training program, or VWIP program, must include the final or most recent technical performance reports. The applicant must also provide evidence of key staff capability. It is preferred that grantees be well established and not in the start-up phase or process. If claiming 501(c)(3) status, the Internal Revenue Service statement indicating 501(c)(3) status approval must be submitted.

(h) Proposed housing strategy for previously incarcerated veterans: Describe how housing resources for incarcerated veterans will be obtained or accessed. These resources must be from linkages or sources other than the IV-TP grant such as HUD, HHS, community housing resources, VA leasing, or other programs.

2. Part 2—The Cost Proposal must contain:

a. Standard Form (SF) 424, “Application for Federal Assistance”, (original and signed in blue-ink) in Appendix A; and

b. The organizational unit section of Block 5 of the SF 424 must contain the Dun and Bradstreet number of the applicant. Please note that beginning October 1, 2003, all applicants for Federal grant funding opportunities are required to include a Dun and Bradstreet (DUNS) number with their application. See OMB Notice of Final Policy Issuance, 68 FR 38402 (June 27, 2003). Applicants' DUNS numbers should be entered into Block 5 of SF 424. The DUNS number is a nine digit identification number that uniquely identifies business entities. There is no charge for obtaining a DUNS number (although it may take 14-30 days). To obtain a DUNS number, access the following Web site: http://www.dunandbradstreet.com/ or call 1-866-705-5711. Requests for exemption from the DUNS number requirement must be made to OMB; and

c. Standard Form (SF) 424A “Budget Information Sheet” in Appendix B; and

d. A detailed cost break out of each line item on the Budget Information Sheet. Please label this page or pages the “Budget Narrative” and ensure that costs reported on the SF 424A correspond accurately with the Budget Narrative; and

e. Direct Cost Description for Applicants and Sub-Applicants in Appendix E.

f. A completed Survey on Ensuring Equal Opportunity for Applicants in Appendix F; and

g. Assurance and Certification signature page (original signed in blue ink) in Appendix C.

Copies of all required forms with instructions for completion are provided as appendices to this SGA.

All applicants must submit evidence of satisfactory financial management capability, which must include recent financial and/or audit statements. Grantees are required to utilize Generally Accepted Accounting Practices, maintain a separate accounting for these grant funds, and have a checking account. The Catalog of Federal Domestic Assistance number for this program is 17.805. It must be entered on the SF 424, Block 10.

All applicants must include, as a separate appendix, a list of all government employment and training grants and contracts that it has had in the past three (3) years, including grant/contract officer contact information. Veterans' Employment and Training Service reserves the right to have a DOL representative within each State review and verify this data. Applicants can expect that the cost proposal will be reviewed for allocations, allowances, and reasonableness.

3. The Cost Proposal Narrative Information: As an attachment to the Budget Information Sheet (SF 424A), the applicant must provide, at a minimum, and on separate sheet(s), the following information:

(a) Breakout of all personnel costs by position, title, salary rates, and percent of time of each position to be devoted to the proposed project (including Sub-grantees) (Appendix E);

(b) Explanation and breakout of extraordinary fringe benefit rates and associated charges (i.e., rates exceeding 35% of salaries and wages), if necessary;

(c) Explanation of the purpose and composition of, and method used to derive the costs of each of the following: travel, equipment, supplies, sub-grants/ contracts, and any other costs. The applicant must include costs of any required travel described in this Solicitation. Mileage charges may not exceed 36 cents per mile, or the current federal rate;

(d) All associated costs, for retaining participant information pertinent to a follow-up survey, six (6) months after the program performance period ends;

(e) Description/specification of and justification for equipment purchases, if any. Tangible, non-expendable, personal property having a useful life of more than one year and a unit acquisition cost of $5,000 or more per unit must be specifically identified; and

(f) Identification of all sources of leveraged or matching funds and an explanation of the derivation of the value of matching/in-kind services. If resources/matching funds and/or the value of in-kind contributions are made available please show in section B of the Budget Information Sheet.

(g) Complete the Survey on Ensuring Equal Opportunity for Applicants (Appendix F).

3. Submission Dates and Times (Acceptable Methods of Submission)

The grant application package must be received at the designated place by the date and time specified or it will not be considered. Any application received at the Office of Procurement Services after 4:45 p.m. e.s.t., January 21, 2004, will not be considered unless it is received before the award is made and:

A. It was sent by registered or certified mail not later than the fifth calendar day before January 21, 2004; or

B. It was sent by U.S. Postal Service Express Mail Next Day Service-Post Office to Addressee, not later than 5 p.m. at the place of mailing two (2) working days, excluding weekends and Federal holidays, prior to January 21, 2004; and

C. It is determined by the government that the late receipt was due solely to mishandling by the government after receipt at the U.S. Department of Labor at the address indicated.

4. Intergovernmental Review

N/A.

5. Funding Restrictions

A. Funding Levels

The total funding available for this solicitation is up to $1,000,000. It is anticipated that up to four (4) awards will be made under this solicitation. Awards are expected to range from $200,000 to a maximum of $250,000. The Department of Labor reserves the right to negotiate the amounts to be awarded under this competition. Please be advised that requests exceeding the $250,000 will be considered non-responsive. Further, there will not be reimbursement of pre-award costs.

B. Period of Performance

The period of performance will be for twelve (12) months from date of award unless modified. It is expected that successful applicants will begin program operations under this solicitation on February 24, 2004. Program funds must be obligated by February 23, 2005; however, a limited amount of funds should be reserved for follow-up activities and closeout.

C. Optional Year Funding

Should there be action by Congress to appropriate additional funds for this purpose, optional year funding may be considered. The government does not, however, guarantee optional year funding for any Grantee. Should VETS decide that an optional year funding be exercised, the Grantees' performance during the previous period of operations will be taken into consideration as follows:

(1) The Grantee must meet at minimum 85% of planned goals for Federal expenditures, enrollments, and placements in each quarter; and

(2) The Grantee must be in compliance with all terms identified in the Solicitation for Grant Application (SGA) general and special provisions.

(3) All program and fiscal reports must have been submitted by the established due date and must be verifiable for accuracy.

(4) All instructions for modifications and announcement of fund availability will be issued at a later date.

D. Limitation on Indirect Costs

(1) Indirect costs claimed by the applicant must be based on a federally approved rate. A copy of the negotiated approved, and signed indirect cost negotiation agreement must be submitted with the application.

(2) If the applicant does not presently have an approved indirect cost rate, a proposed rate with justification may be submitted. Successful applicants will be required to negotiate an acceptable and allowable rate with the appropriate DOL Regional Office of Cost Determination within 90 days of grant award.

(3) Indirect cost rates traceable and trackable through the State Workforce Agency's Cost Accounting System represent an acceptable means of allocating costs to DOL and, therefore, can be approved for use in grants to State Workforce Agencies.

6. Other Submission Requirements

a. The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

b. The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

c. The only acceptable evidence to establish the time of receipt at the U.S. Department of Labor is the date/time stamp of the Procurement Services Center on the application wrapper or other documentary evidence or receipt maintained by that office. Applications sent by other delivery services, such as Federal Express, UPS, etc., will also be accepted.

d. All applicants are advised that U.S. mail delivery in the Washington, DC area has been erratic due to the concerns involving anthrax contamination. All applicants must take this into consideration when preparing to meet the application deadline, as you assume the risk for ensuring a timely submission, that is, if, because of these mail problems, the Department does not receive an application or receives it too late to give proper consideration, even if it was timely mailed, the Department is not required to consider the application.

V. Application Review Information

1. Criteria

A. Applications will be reviewed by a DOL panel using the point scoring system specified below. Applications will be ranked based on the score assigned by the panel after careful evaluation by each panel member. The ranking will be the primary basis to identify applicants as potential Grantees. Although the government reserves the right to award on the basis of the initial proposal submissions, the government may establish a competitive range and/or a minimum qualifying score, based upon the proposal evaluation, for the purpose of selecting qualified applicants. The panel's conclusions are advisory in nature and not binding on the Grant Officer. The government reserves the right to ask for clarification or hold discussions, but is not obligated to do so. The government further reserves the right to select applicants out of rank order if such a selection would, in its opinion, result in the most effective and appropriate combination of funding, program and administrative costs, e.g., cost per enrollment and placement, demonstration models, and geographic service areas. While points will not be awarded for cost issues, cost per entered employment will be given serious consideration in the selection of awardees. The Grant Officer's determination for award under SGA 04-01 is the final agency action.

B. Program Concept and Emphasis

The Incarcerated Veterans Transition Program (IV-TP) pilot program grants under section 5 of the Homeless Veterans Comprehensive Assistance Act (HVCAA) of 2001 are intended to address two objectives, (1) To provide services to assist in reintegrating incarcerated veterans into meaningful employment within the labor force, and (2) to stimulate the development of effective service delivery systems that will address the complex problems facing ex-offender veterans. The Incarcerated Veterans Transition Program (IV-TP) is designed to be flexible in addressing the national, regional, and/or local issues that prevent previously incarcerated veterans from reintegrating into the workforce. VETS in Fiscal Year (FY) 2004 will seek applicants that provide direct services through a case management approach that networks with Federal, State, and local resources for veteran support programs that have clear strategies for employment and retention of the previously incarcerated.

C. Community Awareness Activities

In order to promote networking between the program and local service providers (and thereby eliminate gaps or duplication in services and enhance the provision of assistance to participants), the Grantee must provide project orientation workshops and/or program awareness activities that it determines are the most feasible for the providers listed below. Grantees are encouraged to demonstrate strategies for incorporating small faith-based and community organizations (defined as organizations with social services budgets of approximately $300,000 or 7 or fewer full-time employees) into their outreach plans. Project orientation workshops conducted by Grantees have been an effective means of sharing information and informing the community of the availability of other services; they are encouraged but not mandatory. Rather, the Grantee will have the flexibility to attend service provider meetings, seminars, and conferences, to outstation staff, and to develop individual service contracts as well as to involve other agencies in program planning. The Grantee will be responsible for providing project awareness, program information, and orientation activities to the following:

(1) Direct providers of services to veterans and ex-offenders to include but not be limited to inmate families, jail and prison ministry groups, shelter and soup kitchen operators to make them aware of the services available to incarcerated veterans to make them job-ready and to aid their placement into jobs.

(2) Federal, State and local entitlement service such as the Social Security Administration (SSA), Department of Veterans' Affairs (VA), State Employment Security Agencies (SESAs) and their local Job Service offices, One-Stop Centers (which integrate WIA, Labor Exchange, and other employment and social services), mental health services, and healthcare detoxification facilities to familiarize them with the nature and needs of previously incarcerated veterans.

(3) Civic and private sector groups in particular Veterans' Service Organizations (VSOs), inmate family support groups, job training and employment services, and community-based organizations (including faith-based organizations) to portray previously incarcerated veterans and their needs.

D. Scope of Program Design

(1) Outreach, intake, assessment, peer counseling to the degree practical, and employment services. Outreach must be provided in the subject correctional institutions. Program staff providing outreach services should have experience in dealing with, and an understanding of the needs of the incarcerated and/or ex-offender veterans. Applicants proposing to use peer counselors who are themselves veterans will be awarded five (5) of the available points in the scoring criteria.

(2) Coordination with veterans' services programs, including Disabled Veterans' Outreach Program Specialists (DVOPs), Local Veterans' Employment Representatives (LVERs) in the State Employment Security/Job Service Agencies (SESAs) or in the workforce development system's One-Stop Centers, as well as Veterans' Workforce Investment Programs (VWIPs) and Homeless Veteran Reintegration Programs (HVRP), Department of Veterans' Affairs (VA) services, including its Health Care for Homeless Veterans, Domiciliary Care, Regional Benefits Assistance Program, and Transitional Housing under Homeless Provider Grant and per diem programs.

(3) Grantees will perform a preliminary assessment of each participants' eligibility for Department of Veterans Affairs (DVA) service connected disability, compensation, and/or pension benefits. As appropriate, grantees will work with the Veterans Service Organizations (VSO) or refer the participants to DVA in order to file a claim for compensation or pension. Grantees will track progress of claim and report outcome in case management records.

(4) Association with Veteran Service Organizations such as the American Legion, Disabled American Veterans, the Veterans of Foreign Wars, Vietnam Veterans of America, and the American Veterans (AMVETS).

(5) Coordination with offender re-entry and transitional programs, such as pre-release facilities, work/training release facilities, halfway houses, community supervision, and community justice offices.

(6) Referral as necessary to health care, counseling and rehabilitative services, including, but not limited to: Alcohol and drug rehabilitation; Therapeutic; Post Traumatic Stress Disorder; Mental Health Services; Coordinating with McKinney Homeless Assistance Act (MHAA) Title VI programs for health care for the homeless or health care programs under the HVCAA.

(7) Referral to housing assistance, as appropriate, provided by: Local shelters; Federal Emergency Management Administration (FEMA) food and shelter programs; Transitional housing programs and single room occupancy housing programs funded under MHAA Title IV (and under HVCAA); Permanent housing programs for the handicapped homeless funded under MHAA Title IV (and under HVCAA); and

(8) Employment and training services such as: Basic skills instruction; Remedial education activities; Job search activities, including job search workshops; Job counseling; Job preparatory training, including resume writing and interviewing skills; Subsidized trial employment (Work Experience); On-the-Job Training; Classroom Training; Job placement in unsubsidized employment, Placement follow-up services; and Services provided under WIA.

E. Panel Review Criteria

(1) Need for the project: 15 points.

The applicant will document the need for this project, as demonstrated by: (a) the number of previously and/or current incarcerated veterans in the proposed project area, (b) the rates of poverty and/or unemployment in the proposed project area as determined by the census or other surveys; and (c) the extent of the obstacles in the local infrastructure to effectively address the employment barriers that characterize the target population.

(2) Overall strategy to reduce recidivism by increasing employment and retention: 30 points.

The application must include a description of the approach to providing comprehensive employment and training services, including job training, job development, obtaining employer commitments to hire, placement, and post-placement follow up services. Applicants must address how they will target occupations in emerging industries. Supportive services provided as part of the strategy of promoting job readiness and job retention must be indicated. The applicant must identify the local services and sources of training to be used for participants. A description of the relationship, if any, with other employment and training programs such as SESAs (including DVOP and LVER Programs), One-stops, VWIP, other WIA programs, and Workforce Investment or Development Boards or entities where in place, must be specified. The application must also include a description of the relationship, if any, with correctional facilities or services to be involved with this project, at the institutional and/or community levels. Applicant must indicate how the activities will be tailored or responsive to the needs of homeless veterans. A participant flow chart may be used to show the sequence and mix of services.

Note: The applicant must complete the chart of proposed program outcomes to include participants served, placement/entered employments and job retention. (See Appendix D). Of the 30 points possible in the strategy to increase employment and retention, 5 points will be awarded to grant proposals that demonstrate the ability to maintain a six-month employment retention rate of 50 percent or greater. Applicants proposing to use peer counselors who are themselves veterans will be awarded five (5) of the available points in the scoring criteria.

(3) Quality and extent of linkages with other providers of services to incarcerated veterans: 15 points.

The application must provide information on the quality and extent of the linkages this program will have with other providers of services to benefit previously incarcerated veterans in the local community other than the IV-TP grant. For each service, the applicant must specify who the provider is, the source of funding (if known), and the type of linkages/referral system established or proposed. Describe, to the extent possible, how the project would be incorporated into the community's continuum of care approach to respond to homelessness and show any linkages to HUD, HHS or VA programs that will be advantageous to the proposed program.

(4) Demonstrated capability in providing required program services including programmatically reporting and participant tracking: 25 points.

The applicant must describe its relevant prior experience in operating employment and training programs and providing services to participants similar to those that are proposed under this solicitation. Specific outcomes previously achieved by the applicant must be described, such as job placements, benefits secured, network coalitions, etc. The applicant must also address its capacity for timely startup of the program, programmatic reporting, and participant tracking. The applicant should describe its staff experience and ability to manage the administrative, programmatic and financial aspects of a grant program. Include a recent (within the last 12 months), financial statement or audit. Final or most recent technical reports for other relevant programs must be submitted if applicable. Because prior grant experience is not a requirement for this grant, some applicants will not have any technical reports to submit.

(5) Quality of Overall Housing Strategy: 15 points.

The application must demonstrate how the applicant proposes to obtain or access housing resources for veterans in the program and entering the labor force. This discussion should specify the provisions made to access temporary, transitional, and permanent housing for participants through community resources, HUD, VA lease, or other means. IV-TP funds may not be used to purchase housing or vehicles.

F. Results-Oriented Model

No specific model is mandatory, but the applicant must design a program that is responsive to the needs of the local community, and achieves the objectives of the program—to successfully reintegrate ex-offender veterans into the workforce and stimulate the development of effective service delivery systems that will address the complex problems facing ex-offender veterans.

A data management system to assess ex-offenders is an important element of this program. Data elements to be considered for each program participant include: health, employment and disability status, demographics, veteran's benefits usage, type of most recent criminal conviction, previous criminal history, system entry and discharge, length of time in the program and recidivism measures. Factors to be considered by the review panel are:

(1) Efficient and effective communication between agencies (Department of Labor, Department of Veterans' Affairs, state/local courts, police, other service providers, etc.).

(2) Effective assessment of costs, interventions offered and services provided.

(3) Data standardization/compatibility.

(4) System flexibility, functionality, scalability and ease of use.

(5) Reporting system design and modification.

Under the Government Performance and Results Act (GPRA), Congress and the public are looking for program results rather than program processes.

The suggested conceptual design of the Incarcerated Veterans Transition Program (IV-TP) is shown in Figure 1. Definitions of the elements and Incarcerated Veterans Transition Program (IV-TP) performance goals follow.

BILLING CODE 4910-79-P

BILLING CODE 4910-79-C

Figure 1: IV-TP Concept Flowchart

1. Inreach: The process of providing veteran benefit information to inmates in correctional facilities to facilitate incarcerated veterans attendance at pre-release transition workshops and/or assessment interviews.

2. Sign-up: Initial contact with individual inmates to provide additional information and collect information from inmates who express interest in the program.

3. Identification: Reviewing information provided by inmates who completed the sign-up in step two.

4. Verification: Verification of information and eligibility of inmates who expressed interest and are attempting to sign up for the program.

5. Notification of Workshops: Provide Incarcerated Veterans Transition Program (IV-TP) transition schedule and information to eligible veterans in the incarcerated population.

6. Workshops: Addresses the supportive services and employability and training needs of individuals before enrolling them in an IV-TP program. Includes an evaluation and/or measurement of vocational interests and aptitudes, present abilities, previous education and work experience, income requirements, supportive service needs, substance abuse treatment needs, counseling needs, temporary or transitional housing needs, personal circumstances and other related services.

7. Enrollment in IV-TP: A client is recorded as having been enrolled when the Intake Form has been completed, and either an Individual Support System (ISS), Employment Development Plan (EDP) or Individual Employment Plan (IEP) has been developed with participant. Referral of participant to One-Stop and copy of referral form to DVET (DVET ensures referral follow-up at One-Stop to obtain 30, 90, 180 day job progress report). There should be an unduplicated count over the year: i.e., each participant is recorded only once, regardless of the number of times she or he receives assistance. Other elements of enrollment/services provided which are counted include:

A. Referral to or receiving services from the Department of Veterans' Affairs.

B. Placement into transitional or permanent housing: permanent housing should be recorded when a veteran served by the program upgrades his/her housing situation during the reporting period from shelter/streets to transitional housing or permanent housing or from transitional housing to permanent housing. Placements resulting from referrals by IV-TP staff shall be counted. This item is however an unduplicated count over the year, except that a participant may be counted once upon entering transitional housing and again upon obtaining permanent housing.

C. Direct placements into unsubsidized employment: direct placement into unsubsidized employment is a referral and placement made by an IV-TP-funded staff member (or DVOP/LVER at the One-Stop office the participant was referred to) with an established employer who covers all employment costs for 20 or more hours per week at or above the minimum wage. Day labor and other very short-term placements should not be recorded as placements into unsubsidized employment.

D. Assisted placements into unsubsidized employment: assisted placements into unsubsidized employment should be recorded when the definition for placement with unsubsidized employment above is met, but the placement was arranged by an agency to which the IV-TP referred the homeless veteran, such as a One-Stop Career Center.

E. Cost per placement: the cost per placement into unsubsidized employment is obtained by dividing the total IV-TP funds expended by the total number of direct placements plus assisted placements.

F. Number retaining job for 30 days: to be counted as retaining a job for 30 days, continuous employment with one or more employers for at least 30 days must be verified and the definition for either direct placement or assisted placement into unsubsidized employment above is met. This allows clients who have moved into a position with a different employer to be recorded as retaining the job for 30 days as long as the client has been steadily employed for that length of time.

G. Number retaining job for 90 days: to be counted as retaining a job for 90 days, continuous employment with one or more employers for at least 90 days must be verified, and the definition for either placement or assisted placement into unsubsidized employment above is met. This allows clients who have moved into a position with a different employer to be recorded as retaining the job for 90 days as long as the client has been steadily employed for that length of time.

H. Number retaining job for 180 days: to be counted as retaining a job for 180 days, continuous employment with one or more employers for at least 180 days must be verified, and the definition for either placement or assisted placement into unsubsidized employment above is met. This allows clients who have moved into a position with a different employer to be recorded as retaining the job for 180 days as long as the client has been steadily employed for that length of time.

I. Rate of placement into unsubsidized employment: the rate of placement into unsubsidized employment is obtained by dividing the number placed into unsubsidized employment plus the number of assisted placements into unsubsidized employment by the number of clients enrolled.

J. Average hourly wage at placement: the average hourly wage at placement is the average hourly wage rates at placement of all assisted placements plus direct placements.

K. Employability development services. This includes services and activities that will develop or increase the employability of the participant. Includes vocational counseling, classroom and on-the-job training, pre-employment services (such as job seeking skills and job search workshops), temporary or trial employment, sheltered work environments and other related services and activities. Planned services should assist the participant in addressing specific barriers to employment and finding a job. These activities may be provided by the applicant or by a Sub-grantee, contractor or another source such as the local Job Partnership Training Act program or the DVOP personnel or LVERs. Such services are not mandatory but entries should reflect the services described in the application and the expected number of participants receiving or enrolled in such services during each quarter. Participants may be recorded more than once if they receive more than one service.

L. Total planned expenditures (total funds requested): identification of projected expenditures needed for each fiscal quarter.

M. Administrative costs. Administrative costs shall consist of all direct and indirect costs associated with the supervision and management of the program. These costs shall include the administrative costs, both direct and indirect, of Sub-grantees and contractors.

N. Participant services costs. This cost includes supportive, training, or social rehabilitation services which will assist in stabilizing the participant. This category should reflect all costs other than administrative.

The outcome measurement established for IV-TP grants is for Grantees to meet a minimum entered employment rate of 56%, determined by dividing the number of entered employments by the number of enrollments. (These outcomes will be reported quarterly on Technical Performance Goals Form, Appendix D.) While entered employment is a viable outcome, it will be necessary to measure results over a longer term to determine the success of programs.

The following program discussion must be considered in a results-oriented model. The first phase of activity must consist of the level of outreach necessary to introduce the program to eligible incarcerated veterans. This includes “inreach” into prisons and jails to find eligible veterans in the inmate population. Outreach also includes establishing contact with other agencies that encounter ex-offender veterans.

After “inreach”, the incarcerated veteran must sign-up for enrollment into the program by assisting the Grantee in obtaining verification of eligibility for said program. The program operator may enroll participant in pre-release workshop (National Veterans' Training Institute will provide a model if needed) then enroll in referral program outside of facility or provide direct assessment and referral program outside of facility.

Once the eligible participants have been identified, an assessment must be made of the individual's abilities, interests, needs, and barriers to employment. In some cases, participants may require referrals to services such as rehabilitation, drug or alcohol treatment or a temporary shelter before they can be enrolled into core training.

When the individual is “work ready”, the assessment should concentrate on the employability of the individual and the individual's enrollment into the program. A determination should be made as to whether the individual would benefit from pre-employment preparation such as resume writing, job search workshops, related counseling and case management, or possibly an initial entry into the job market through temporary jobs. Additionally, sheltered work environments, classroom training and/or on-the-job training must be evaluated. Such services should be noted in an Employability Development Plan to facilitate the staff's successful monitoring of the plan.

Entry into full-time employment or a specific job-training program should follow. Supportive services may assist the participant at this point or even earlier. Job development is a crucial part of the employability process and IV-TP participants will be referred to a One-Stop for career counseling and coaching.

Wherever possible, DVOP and LVER staff must be utilized for job development and placement activities for veterans who are ready to enter employment or who are in need of intensive case management services. Many of these staff members have received training in case management at the National Veterans' Training Institute and have as a priority, assisting those most at a disadvantage in the labor market. VETS urges working hand-in-hand with DVOP/LVER staff to achieve economies of resources.

The subsequent program discussion emphasizes the importance of tracking program participants. It begins with the One-Stop referral and continues with the 30, 90, and 180-day follow-up periods after entering employment to determine whether the veteran is in the same or similar job. It is important that the Grantee maintain contact with the veterans after placement to assure that employment related problems are addressed. The 30, 90, and 180-day follow-ups are fundamental to assessing the results of the program success. Grantees need to budget for this activity so that follow-up can and will occur for those placed at or near the end of the grant performance period. Grantees, prior to the end of the grant performance period, must obligate funds to ensure that follow-up activities are completed. Such results will be reported in the final technical performance report.

2. Program Activity Process

There are nine program activities that all applications should consider under this SGA. Programs must be “employment focused” with emphasis on referral to counseling services to address employment barriers. These activities are:

a. Marketing and Inreach;

b. Sign-up;

c. Identification;

d. Verification;

e. Notification of workshops and /or assessment interview;

f. Participation in pre-release workshop and or assessment interview;

g. Enrollment in IV-TP including ISS/EDP/IEP development;

h. Referral to One-Stop/VA facility and copy of the referral sent to DVET who assists the Program Operator by compiling the Quarterly Report of participants;

i. Referral to the State Veteran Program Coordinator (who ensures participant referral follow-up within 30 days and maintains 30, 90, and 180-day job progress reports).

Note the program activities under the flowchart provided above.

3. Anticipated Announcement and Award

N/A.

VI. Award Administration Information

1. Award Notices

A. Notice that an organization has been selected as a grant recipient does not constitute approval of the grant application as submitted. Before the actual grant award, VETS may enter into negotiations concerning such items as program components, funding levels, and administrative systems. If the negotiations do not result in an acceptable submittal, the Grant Officer reserves the right to terminate the negotiation and decline to fund the proposal.

B. A Post-Award conference will be held for those Grantees awarded FY 2004 IV-TP funds from the competition. It is expected to be held in February or March 2004. At least two representatives must be present; a financial and a program representative are recommended. The site of the Post-Award conferences have not yet been determined, for planning and budgeting purposes, please use five days and use Denver, Colorado as the conference site. The conference will focus on providing information and assistance on reporting, record keeping, and grant requirements, and also include best practices from past projects. Costs associated with attending this conference for up to two Grantee representatives will be allowed as long as they were incurred in accordance with Federal travel regulations. Such costs must be charged as administrative costs and reflected in the proposed budget.

2. Administrative and National Policy

A. Limitations on Administrative and Indirect Costs

(1) Indirect costs claimed by the applicant must be based on a federally approved rate. A copy of the negotiated, approved, and signed indirect cost negotiation agreement must be submitted with the application.

(2) If the applicant does not presently have an approved indirect cost rate, a proposed rate with justification may be submitted. Successful applicants will be required to negotiate an acceptable and allowable rate with the appropriate DOL Regional Office of Cost Determination within 90 days of grant award.

(3) Rates traceable and trackable through the State Workforce Agency's Cost Accounting System represent an acceptable means of allocating costs to DOL and, therefore, can be approved for use in grants to State Workforce Agencies.

B. Administrative Standards and Provisions

Unless specifically provided in the grant agreement, DOL's acceptance of a proposal and an award of Federal funds to sponsor any program(s) does not provide a waiver of any grant requirements and/or procedures. For example, the OMB circulars require and an entity's procurement procedures must provide that all procurement transactions will be conducted, as practical, to provide open and free competition. If a proposal identifies a specific entity to provide the services, the DOL award does not provide the justification or basis to sole-source the procurement, i.e., avoid competition. All grants will be subject to the following administrative standards and provisions, if applicable:

(1) 29 CFR part 93—Lobbying.

(2) 29 CFR part 95—Uniform Administrative Requirements for Grants and Agreements with Institutions of Higher Education, Hospitals, and other Non-profit Organizations, and with Commercial Organizations.

(3) 29 CFR part 96—Federal Standards for Audit of Federally Funded Grants, Contracts and Agreements.

(4) 29 CFR part 97—Uniform Administrative Requirements for Grants and Cooperative Agreements to State and Local Governments.

(5) 29 CFR part 98—Federal standards for Government-wide Debarment and Suspension (Nonprocurement) and Government-wide Requirements for Drug-Free Workplace (Grants).

(6) 29 CFR part 99—Audit of States, Local Governments, and Non-profit Organization.

(7) 29 CFR parts 30, 31, 32, 33 and 36—Equal Employment Opportunity in Apprenticeship and Training; Nondiscrimination in Federally-Assisted Programs of the Department of Labor, Effectuation of Title VI of the Civil Rights Act of 1964; Nondiscrimination on the Basis of Handicap in Programs and Activities; and Nondiscrimination on the basis of sex in Education programs receiving or benefiting from Federal Financial Assistance.

3. Reporting

The Grantee will submit the reports and documents listed below:

A. Financial Reports

The Grantee must report outlays, program income, and other financial information on a quarterly basis using SF 269A, Financial Status Report, Short Form. This form will cite the assigned grant number and be submitted to the appropriate State Director for Veterans' Employment and Training (DVET) no later than 30 days after the ending date of each Federal fiscal quarter (i.e., October 30, January 30, April 30 and July 30) during the grant period.

B. Program Reports

Grantees must submit a Quarterly Technical Performance Report 30 days after the end of each Federal fiscal quarter to the DVET that contains the following:

(1) A comparison of actual accomplishments to established goals for the reporting period and any findings related to monitoring efforts;

(2) An explanation for variances of plus or minus 15% of planned program and/or expenditure goals, to include: (i) Identification of corrective action that will be taken to meet the planned goals, if required; and (ii) a timetable for accomplishment of the corrective action.

C. 90 Day Follow-Up Report

The Grantee must submit no later than 120 days after the grant performance expiration date a report containing the following:

(1) Financial Status Report (SF-269A) (copy to be provided following grant awards); and

(2) Technical Performance Report—(Program Goals).

D. Six (6) Month Follow-Up/Closeout Report

(1) Final Financial Status Report (SF-269A); and

(2) Final Narrative Report identifying—(a) the total combined (directed/assisted) number of veterans placed during the entire grant period; (b) the number of veterans still employed after the 6 month follow-up period; (c) if the veterans are still employed at the same or similar job, if not what are the reasons; (d) if the training received was applicable to jobs held; (e) wages at placement and during follow up period; (f) an explanation regarding why those veterans placed during the grant, but not employed at the end of the follow up period, are not so employed; and (g) any recommendations to improve the program.

VII. Agency Contacts

For questions concerning this solicitation please contact: U.S. Department of Labor, Procurement Services Center, 200 Constitution Avenue, NW., Room N-5416, Attention: Cassandra Willis, Reference SGA 04-01, Washington, DC 20210; Phone: (202) 693-4570.

VIII. Other Information

To be eligible for participation in the Incarcerated Veterans Transition Program (IV-TP), a veteran must be within 18 months of release from a participating correctional facility; a veteran is defined as follows:

A. The term “veteran” means a person who served in the active military, naval, or air service, and who was discharged or released there from under conditions other than dishonorable. (Title 38 U.S.C. 101(2))

B. A veteran transitioning from incarceration means a person, as defined in A. above, who is within 18 months of release from a correctional institution or facility.

Notice that an organization has been selected as a grant recipient does not constitute approval of the grant application as submitted. Before the actual grant award, VETS may enter into negotiations concerning such items as program components, funding levels, and administrative systems. If the negotiations do not result in an acceptable submittal, the Grant Officer reserves the right to terminate the negotiation and decline to fund the proposal.

Signed in Washington, DC this 12th day of December, 2003.
Lawrence J. Kuss,
Grant Officer.

Appendices

Appendix A: Application for Federal Assistance SF Form 424

Appendix B: Budget Information Sheet SF 424A

Appendix C: Assurances and Certifications Signature Page

Appendix D: Technical Performance Goals Form

Appendix E: Direct Cost Descriptions for Applicants and Sub-Applicants

Appendix F: Survey on Ensuring Equal Opportunity for Applicants

Appendix G: Glossary of Terms

Appendix H: List of Common Acronyms

BILLING CODE 4910-79-P

[FR Doc. 03-31201 Filed 12-19-03; 8:45 am]

BILLING CODE 4510-79-C